TENNESSEE VALLEY AUTHORITY

Hope Solar and Storage Project

AGENCY: Tennessee Valley Authority.

ACTION: Notice of intent.

SUMMARY: The Tennessee Valley Authority (TVA) intends to prepare an environmental document for the purchase of electricity generated by the proposed Hope Solar and Storage Project in Clay County, Mississippi. The environmental review will assess the potential environmental effects of constructing, operating, and maintaining the proposed 200-megawatt (MW) alternating current (AC) solar photovoltaic (PV) facility and up to 200 MW Battery Energy Storage System (BESS). The proposed solar facility and BESS system would occupy a portion of the 2,427-acre Project Study Area. Public comments are invited concerning the scope of the review, alternatives being considered, and environmental issues that should be addressed as a part of this review. TVA is also requesting data, information, and analysis relevant to the proposed action from the public; affected federal, state, tribal, and local governments, agencies, and offices; the scientific community; industry; or any other interested party.

DATES: The public scoping period begins with the publication of this Notice of Intent in the Federal Register. To ensure consideration, comments must be postmarked, emailed, or submitted online no later than April 10, 2025.

ADDRESSES: Written comments should be sent to Elizabeth Smith, NEPA Specialist, Tennessee Valley Authority, 400 West Summit Hill Drive, WT 11B, Knoxville, Tennessee 37902. Comments may be submitted online at: www.tva.gov/nepa, or by email to nepa@tva.gov. Please note that TVA encourages comments submitted electronically.

FOR FURTHER INFORMATION CONTACT: Elizabeth Smith by email at esmith14@tva.gov, by phone at (865) 632-3053, or by mail at the address above.

SUPPLEMENTARY INFORMATION: The unique identification number is EISX-455-00-000-1731928656. This notice is provided in accordance with TVA's procedures for implementing the NEPA (18 CFR 1318). TVA is an agency and instrumentality of the United States, established by an act of Congress in 1933, to foster the social and economic welfare of the people of the Tennessee Valley region and to promote the proper use and conservation of the region's natural resources. One component of this mission is the generation, transmission, and sale of reliable and affordable electric energy.

Background

In June 2019, TVA completed the final 2019 Integrated Resource Plan (IRP) and associated EIS. The IRP is a comprehensive study of how TVA will meet the demand for electricity in its service territory over the next 20 years. The 2019 IRP recommends solar expansion and anticipates growth in all scenarios analyzed, with most scenarios anticipating 5,000-8,000 MW and one anticipating up to 14,000 MW by 2038.

TVA is considering entering into a Power Purchase Agreement (PPA) with Origis to purchase 200 MW AC of power and up to 200 MW of BESS generated by the proposed Hope Solar and Storage Project, hereafter referred to as the Project. The proposed 200 MW AC solar PV facility and 200 MW BESS system would occupy a portion of the 2,427-acre Project Study Area which is located in Clay County, Mississippi. The project site is north of West Point, Mississippi, and west of US Highway 45 Alternate. The project site is mostly farmland with areas of woody wetlands, deciduous forest, and hay/pasture. The land surplus is to accommodate relocating the array if any areas need to be avoided as a result of the NEPA review. A map showing the project site is available at www.tva.gov/nepa.

Preliminary Proposed Action and Alternatives

In addition to a No Action Alternative, TVA will evaluate the action alternative of purchasing power from the proposed Hope Solar and Storage Project under the terms of a PPA. In evaluating alternatives, TVA considered other solar proposals, prior to selecting the Hope Solar and Storage site for further evaluation. Part of the screening process included a review of transmission options, including key connection points to TVA's transmission system. The Hope Solar and Storage site stood out as a viable option for connectivity to TVA's existing West Point Substation. Environmental and cultural considerations are also included in TVA's screening. For the proposed site, the solar developer plans to consider the establishment of an alternative footprint so that impacts to cultural and/or biological resources could be avoided. The environmental review will also evaluate ways to mitigate impacts that cannot be avoided. The description and analysis of these alternatives in the review will inform decision makers, other agencies, and the public about the potential for environmental impacts associated with the proposed solar facility. TVA solicits comments on whether there are other alternatives that should be assessed in the environmental review.

Project Purpose and Need

TVA is a corporate agency of the United States (U.S.) and the largest public power provider in the country. Through its partnership with 153 local power companies, TVA supplies electricity across 80,000 square miles for 10 million people, 750,000 businesses, and 56 large industrial customers, including military installations and the U.S. Department of Energy facilities in Oak Ridge, Tennessee. TVA's service area includes most of Tennessee and parts of six adjacent states. Since 1933, TVA's mission has been to serve the people of the Tennessee Valley region to make life better.

TVA produces or obtains electricity from a diverse portfolio of energy sources, including solar, hydroelectric, wind, biomass, fossil fuel, and nuclear. In June 2019, TVA completed an Integrated Resource Plan (IRP) and associated environmental impact statement. The 2019 IRP identified the various resources that TVA intends to use to meet the energy needs of the TVA region over the 20-year planning period while achieving TVA's objectives to deliver reliable, low-cost, and cleaner energy with fewer environmental impacts. The 2019 IRP recommends the expansion of solar generating capacity of up to 14,000 MW by 2038 (TVA 2019) and is currently in the process of updating the IRP. With the demand for solar energy increasing, TVA has an expansion target of 10,000 MW of solar by 2035 (TVA 2021). The Hope Solar and Storage Project would provide cost effective renewable energy consistent with the 2019 IRP and TVA goals.

To meet these goals, public scoping is integral to the process for implementing NEPA and ensures that (1) issues are identified early and properly studied, (2) issues of little significance do not consume substantial time and effort, and (3) the analysis of identified issues is thorough and balanced. This environmental review will identify the purpose and need of the project and will contain descriptions of the existing environmental and socioeconomic resources within the area that could be affected by the proposed solar facility and BESS system, including the documented historical, cultural, and environmental resources. Evaluation of potential environmental impacts to these resources will include, but not be limited to, air quality and greenhouse gas emissions, surface water, groundwater, wetlands, floodplains, vegetation, wildlife, threatened and endangered species, land use, natural areas and parks and recreation, geology, soils, prime farmland, visual resources, noise, cultural resources, socioeconomics, solid and hazardous waste, public and occupational health and safety, utilities, and transportation.

Based on a preliminary evaluation of these resources, potential impacts to cultural resources through construction of the facility are possible. Impacts to vegetation and wildlife due to the conversion of deciduous forest of various ages to early maintained grass-dominated fields may occur. Impacts to water resources would likely be minor with the use of best management practices and avoidance of siting project components in or near streams, wetlands, and riparian areas to the extent feasible. Land use would be impacted by the conversion of farmland to industrial use and the elimination of current farming operations. This would also result in visual impacts. Beneficial impacts are expected by facilitating the development of renewable energy and thereby increasing local job opportunities, as well as improving regional air quality and reducing carbon emissions. The environmental review will analyze measures that would avoid, minimize, or mitigate environmental effects. The final range of issues to be addressed in the environmental review will be determined, in part, from scoping comments received.

Request for Identification of Potential Alternatives, Information, and Analyses Relevant to the Proposed Action

Public scoping is integral to the process for implementing NEPA and ensures that issues are identified early and properly studied, issues of little significance do not consume substantial time and effort, and the analysis of those issues is thorough and balanced. The final range of issues to be addressed in the environmental review will be determined, in part, from scoping comments received. TVA is particularly interested in public input on other reasonable alternatives that should be considered in the review. The preliminary identification of reasonable alternatives and environmental issues in this notice is not meant to be exhaustive or final.

Public Participation

The public is invited to submit comments on the scope of this environmental review no later than the date identified in the DATES section of this notice. Federal, state, and local agencies and Native American Tribes are also invited to provide comments. Information about this project is available on the TVA web page at www.tva.gov/nepa, including a link to an online public comment page. Any comments received, including names and addresses, will become part of the administrative record and will be available for public inspection. After consideration of comments received during the scoping period, TVA will develop and distribute a scoping document that will summarize public and agency comments that were received and identify the schedule for completing this process. Following analysis of the issues, TVA will prepare the draft environmental document for public review and comment; expected to be released early 2026. TVA anticipates the final environmental document in summer 2026. In finalizing the document and in making its final decision, TVA will consider the comments that it receives on the draft.

Dawn Booker,
Senior Manager, NEPA Compliance.

[FR Doc. 2025-04066 Filed 3-10-25; 4:15 pm]

BILLING CODE 8120-08-P